DEPARTMENT OF THE INTERIOR

Bureau of Reclamation

[145R5065C6; RX.59799806.1001001; RR85818000]

Notice To Reopen the Public Comment Period for Agency Information Collection Activities; Proposed Collection; Comment Request

AGENCY: Bureau of Reclamation, Interior.

ACTION: Notice.

SUMMARY: The Bureau of Reclamation is reopening the public comment period for the proposed information collection: Collection and Compilation of Water Pipeline Field Performance Data. In response to comments received during the 60-day public comment period, the Bureau of Reclamation has revised the information collection request and will publish a second Federal Register notice offering a 30-day comment period prior to submitting the information collection request to the Office of Management and Budget for approval.

DATES: Submit written comments on the information collection request on or before October 31, 2014.

ADDRESSES: Send all written comments concerning this notice to Lee Sears, Materials Engineering Research Laboratory, 86-68180, Bureau of Reclamation, P.O. Box 25007, Denver, Colorado 80225; or via email to lsears@usbr.gov.

FOR FURTHER INFORMATION CONTACT: To request more information on this information collection or to request a copy of the collection instrument, please contact Lee Sears at 303-445-2392.

SUPPLEMENTARY INFORMATION:

I. Background

In accordance with the Paperwork Reduction Act of 1995 (44 U.S.C. 3501 et seq.), the Bureau of Reclamation announced its intentions of submitting the Collection and Compilation of Water Pipeline Field Performance Data information collection request to the Office of Management and Budget for approval. The required 60-day public comment period for this information collection request was initiated by a notice published in the Federal Register on February 26, 2014 (79 FR 10842). The information being collected is required to comply with a request from Congress for the Bureau of Reclamation to assemble data on pipeline reliability for specific types of pipes.

Comments were received from two entities regarding the information collection during the comment period that ended on April 14, 2014.

II. Summary of Proposed Changes, Comments and Responses

Comments received that are similar in nature have been categorized into technical and general comments, and in some instances have been combined with related comments. Comments and our responses on general issues are arranged first, followed by comments and responses regarding the technical text of the information collection request.

General Comments and Responses

Comment: Nonprofit organizations, such as the American Water Works Association, routinely conduct surveys and other studies. For these studies, the organizations generally protect the underlying data from public disclosure if the entity providing the data wishes to keep the data private (absent a legal action or other extraordinary circumstance). The survey instrument recognizes this issue and concern: “Privacy: Your name and facility name will not appear in our results. Access to documents and electronic files is restricted to the research staffs at Battelle, the Water Research Foundation, and the Bureau of Reclamation, who are working on the study.” However, there is a possibility that a request for the data could be made under the Freedom of Information Act.

Response: Access to documents and electronic files is restricted to the research staffs at Battelle, the Water Research Foundation, and the Bureau of Reclamation. Prior to sharing this data with the Water Research Foundation and the Bureau of Reclamation, Battelle will substitute unique identifiers for specific facility names to protect privacy should a request for data be made under the Freedom of Information Act. The information collection instrument has been revised accordingly.

Comment: The stated expected completion time of “up to 60 minutes” seems insufficient, especially for large utilities that may have numerous breaks to report and/or may require significant manipulation of their internal datasets to report the information as requested.

Response: This estimate is based on discussions with large utilities. The language has been updated so that 60 minutes is clarified to be an estimate, not a maximum.

Comment: It is important for the sample methodology to be available for comment. The survey and accompanying documents do not answer: (1) Which entities will be contacted; (2) how they will be selected; (3) what is the goal sample mix of respondents; or, (4) who within an entity will be contacted? These and other sampling issues are very important issues that warrant public notice and comment.

Response: Selection is documented in Supporting Statement B. All large water utilities will be contacted.

Comment: The survey should clearly indicate the type of pipe materials the survey covers.

Response: The survey has been altered to clarify the types of pipe materials covered.

Comment: If the survey considers distribution pipelines, the survey should divide the pipelines based upon pipelines that are: 12″ (distribution), and 14+″ in diameter (transmission), rather than using 12″ as the dividing line between distribution and transmission pipelines.

Response: The survey does not define 12″ and below as distribution lines and 14″ and above as transmission lines. We recommend staying with small less than 12″ and large greater than 12″, which can be argued as well, but the data can be sorted.

Comment: The survey should provide a mechanism for respondents to answer whether they are satisfied with a particular pipe material/method of corrosion protection.

Response: This data is not necessary for the study.

Comment: Question B1.b. of the survey instrument would be more accurate as “Pipe Segment Identifier.”

Response: This change has been incorporated.

Comment: Question A6 of the survey instrument: To allow for better segmentation and balancing of the eventual utility sample after collection, States should be listed individually in the drop down menu in alphabetical order rather than in predetermined regions.

Response: The drop down menu has been updated to incorporate this change.

Comment: Question B1.d. of the survey instrument: Pipe manufacturer is data that is not gathered in many cases.

Response: This data could help identify differences in pipes of the same type. This data will not be required to participate.

Comment: While the supporting documents outline specifics of the survey instrument in detail, it was difficult to find similar clarity in the specifics of the sampling plan for the study. The selection of utilities to include in the database can introduce significant response bias if important factors such as installation, maintenance and soil conditions are not adequately understood and balanced in the database.

Response: Selection is documented in Supporting Statement B. Bias will be limited by requesting data from all large water utilities.

Comment: The survey does not seem to provide a framework for respondents to provide uniform and consistent information. Based on the examples provided, if a respondent has data that meets a certain threshold, it can then upload the data in any manner that it would like. Without a method to ensure uniformity in response, the data will vary greatly.

Response: We allow this to encourage more responses and Battelle will standardize the data.

Technical Comments and Responses

Comment: Question B1.i of the survey instrument: Resistivity is useful for corrosivity, while pH and acidity are essentially the same and never a significant factor for corrosion.

Response: We will gather all data identified in the survey instrument if available. Soil pH is a significant corrosion consideration and therefore will be included in the survey instrument.

Comment: Question B1.i. of the survey instrument: It will be critical to specify in advance the soil corrosivity data requested in the survey will be for the specific soils around the breakage, and not a general soil corrosivity profile throughout a given utility's service area. Generalized regional soil information may not provide adequate understanding of the causal factors in pipe breakage if a utility has a wide variety of soils present in its service area.

Response: This question has been updated to request specific soil data near the break.

Comment: Data Collection: Unless all of the data is collected only from drinking water, it is critical to provide a column to specify the liquid(s) being transported within the pipe (e.g. raw water, treated water, storm water, sewage, etc.) to understand the internal reactions that might be occurring between the liquid and the interior of the pipe.

Response: A question has been added concerning quality of conveyed water (potable or non-potable).

Comment: “Break Type:” definitions should be provided so that respondents across different utilities are reporting the same types of breaks in the same manner. This may require sub-categories including location of break (mid-pipe, at joint, etc.). As the debate over allowable break frequency or pipe service life ensues, understanding what types of breaks will likely be critical to assessing performance standards. Additionally, the types of breaks occurring may help point to installation issues or other causal factors that are not inherent to the types of pipe as well as help assess the adequacy of various protection and maintenance methods (such as corrosion control).

Response: A question about location has been added to the survey.

Comment: Causal information regarding breaks is critical, and should be added to the data required for participation and requested from eventual utility participants. Forensic understanding such as the type(s) of causal factors likely involved in the break is important to understanding the role of the material in the failure. If causal factor data are not available in a utility's database, they should be excluded from the sample due to this insufficiency.

Response: This question is included in the survey. While we agree this piece of information is important, we expect many utilities may not document the causes. Because this column will be in our database, we will be able to compare data sets with and without this data. We are not planning to exclude utilities that do not have this data.

Comment: It would be beneficial to better understand causal factors in breakage to also be able to cross-reference other site conditions that can significantly contribute to breakage such as the presence of stray current (nearby light rail operations or other stray current sources), bury depth and/or exposure, roadway or other surface traffic conditions that would lead to cyclic stress, presence of fixture restraint to compensate for hammering and surges, and pipe installation (such as if a water transmission line is installed within a crossing through a larger sewer or storm water pipe).

Response: Some of these factors will be difficult to collect for many breaks events. While these data could be important, we do not want to require all of them for fear it would create an undue burden on the respondent. Burial depth has been added to the survey.

Comment: Installation and maintenance capabilities and practices are likely key variables in the relative pipe breakage experience between utilities. It is easy to imagine significant sample bias if, for instance, utilities that predominantly use one type of pipe have poorer installation skills or maintenance programs than utilities that predominantly use a different type of pipe. Great care in balancing the utility sample base will be necessary, as well as perhaps standardizing and normalization of the resulting data base post collection.

Response: While this could be true, it will be difficult to evaluate as these practices change over time. The data accuracy of the response would be based not only on the knowledge of the utility respondent, but also on the respondent history with its utility, which could vary greatly.

Comment: “The Bureau of Reclamation has obtained the services of an outside to survey water facilities and collect water data on water pipeline corrosion related failures. The information requested is required to comply with a request from Congress for the Bureau of Reclamation to assemble data on pipeline reliability for specific types of pipes.” The following questions pertain to the statement above:

1. Which entity?

2. Just facilities or also water professionals, such as engineers?

3. What type of data?

4. Internal corrosion, external corrosion or both? How do you define and quantify a corrosion related failure? By percentage cause or other method?

5. How do you define a failure?

Response: Supporting Statements A and B have been revised and clarified to address these questions.

Comment: While the notice focuses on failures, the survey asks for break/leak information—a leak appears to be very different from a failure, and a break could be different than a failure.

Response: Breaks and leaks are the focus of the survey. Failure is equivalent to a break and leaks may lead to breaks/failures. Examples of break/leak type have been added to the information collection documents.

Comment: The survey does not seem to limit the pipe materials surveyed. “If it is determined that you have high-quality water pipeline performance data, we will email you, which will allow you to upload that data in any format you choose.” The following questions and comments pertain to the statement above:

1. Who will determine if the data is high quality?

2. This would seem to make it very difficult, if not impossible, to standardize the content of the data provided.

Response: The purpose of the data collection, “to collect high-quality field data on the performance of water pipelines of different materials,” is clearly noted in the information collection instrument. Battelle will make the determination on data quality and will standardize the data provided.

Comment: The Bureau of Reclamation indicates that it is only concerned with failures that require a pipeline to be taken out of service. If the Bureau of Reclamation's standard is used, the survey should require respondents to answer whether the leak/failure required the pipeline to be taken out of service. The Bureau of Reclamation has used a subset of the Department of Transportation oil and gas data instead of the dataset including all failures, lending further credence to this approach. Under this scenario, any failure that does not lead to a disruption in service is irrelevant.

Response: A question has been added to the survey concerning the duration of service interruption caused by the break/leak.

Comment: The survey should eliminate past leaks/breaks/failures that are not likely to occur now or in the future. There are numerous factors that could explain these past failures, including, but not limited to:

• Installation errors.

• Maintenance issues.

• Old technologies, such as leadite joints or lead caulked joints.

• Practices that have been modified so that the leak/break/failure would not occur now.

Response: This would be nearly impossible to eliminate. By collecting this data and documenting any known shifts in materials or practices, the failure rates will carry more value.

Comment: The survey needs to define key terms and provide options for respondents to select certain types of breaks so that there is some uniformity. It is important for “corrosion-related” leaks/breaks/failures to be defined to understand how the survey will evaluate the information. Multiple factors may be the cause of a particular failure, and the survey should provide a method to identify and rank the relative importance of concurrent causes of a leak or failure. This is especially important when dealing with potential corrosion-related problems where installation, maintenance or other issues may be the actual cause of the problem.

When dealing with labeling failures, it is important that there are checks in place on the front and back ends of the survey. This is often challenging because many utility records are not complete enough to capture this information. This is particularly important in potential corrosion-related failures where installation, maintenance or other factors may be the cause of a corrosion-related failure. These factors include, but are not limited to:

• Installation problems with the pipe and/or corrosion protection.

• Soil type and/or soil conditions in specific areas of a pipe line.

• Environmental conditions.

• Frost depth, etc.

• Other contributing factors (road reconstruction may create impacts).

Response: The question on break/leak type has been clarified to address this comment.

Comment: The survey should capture whether the utility has provided specific training to categorize the cause of the failure, conducts forensic evaluations, maintains forensic records and other issues to ensure accurate reporting.

Response: This will be evident by the utility responses to the current questions.

Comment: It is also important for there to be checks on the type of pipe and corrosion protection reported.

Response: Battelle has a quality assurance/quality check process in place to check data from respondents.

Comment: It is especially important that cast iron pipe failures are not inaccurately described as ductile iron pipe failures.

Response: Battelle has a quality assurance/quality check process in place to check data from respondents.

III. Data

Title: Collection and Compilation of Water Pipeline Field Performance Data.

OMB Control Number: 1006-XXXX.

Description of respondents: Large water utility and Federal facility pipe data managers.

Frequency: One-time collection.

Estimated completion time: 3 minutes (making participation decision); 15 minutes (online survey); 2 minutes (online refusal survey); 60 minutes (uploading data); and 2 minutes (data upload refusal survey).

Estimated Total Number of Respondents: 418 (making participation decision); 209 (online survey); 209 (online refusal survey); 68 (uploading data); and 68 (data upload refusal survey).

Estimated Number of Responses per Respondent: 1.

Estimated Total of Annual Responses: 418 (making participation decision); 209 (online survey); 209 (online refusal survey); 68 (uploading data); and 68 (data upload refusal survey).

Estimated Total Annual Burden Hours on Respondents: 21 hours (making participation decision); 53 hours (online survey); 7 hours (online refusal survey); 68 hours (uploading data); and 3 hours (data upload refusal survey), for a combined total of 152 hours.

IV. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

We will summarize all comments received regarding this notice. We will publish that summary in the Federal Register when the information collection request is submitted to OMB for review and approval.

V. Public Disclosure

Before including your address, phone number, email address, or other personal identifying information in your comment, you should be aware that your entire comment—including your personal identifying information—may be made publicly available at any time. While you can ask us in your comment to withhold your personal identifying information from public review, we cannot guarantee that we will be able to do so.

Dated: September 25, 2014.
Richard W. LaFond,
Chief, Civil Engineering Services Division Bureau of Reclamation.

[FR Doc. 2014-23405 Filed 9-30-14; 8:45 am]

BILLING CODE 4332-90-P